FEDERAL COMMUNICATIONS COMMISSION

47 CFR Part 73

[DA 01-1016; MM Docket No. 90-195, RM-7152]

Radio Broadcasting Services; Brookline, Missouri

AGENCY: Federal Communications Commission.

ACTION: Final rule; petition for reconsideration.

SUMMARY: This document dismisses as moot a Petition for Reconsideration filed by Lake Broadcasting, licensee of Station KBMX(FM), Channel 270A, Eldon, Missouri and permittee of Station KFXE(FM), Channel 271A, Cuba Missouri, of the Report and Order in this proceeding, which allotted Channel 271 at Brookline, Missouri, as a first local service. See 60 FR 62219 published December 5, 1995. Lake had argued that the Brookline allotment prejudices Lake's reconsideration petition in MM Docket 89-120 for an upgrade of its Eldon station, but the staff ruled that the Brookline petition was moot in view of the Commission's revocation of Lake's license for its Eldon and other stations, the affirmance by the U.S. Court of Appeals for the DC Circuit, and the denial of certirorari by the U.S. Supreme Court and in view of the Commission's dismissal of Lake's reconsideration petition in MM Docket 89-120. This document also denies Lake's motion to set aside the Report and Order, holding that the Brookline allotment is valid even though the original rulemaking proponent did not file an application for the allotment because four other parties did file applications. With this action, the proceeding is terminated.

FOR FURTHER INFORMATION CONTACT: Andrew Rhodes, Mass Media Bureau (202) 418-2120.

SUPPLEMENTARY INFORMATION: This is a synopsis of the Commission's Memorandum Opinion and Order in MM Docket No. 90-195, adopted April 11, 2001, and released April 20, 2001. The full text of this decision is available for inspection and copying during normal business hours in the FCC Reference Information Center at Portals ll, CY-A257, 445 12th Street, SW., Washington, DC. The complete text of this decision may also be purchased from the Commission's copy contractor, International Transcription Service, Inc., (202) 857-3805, 1231 M Street, NW., Washington, DC 20036.

Federal Communications Commission.
John A. Karousos,
Chief, Allocations Branch, Policy and Rules Division, Mass Media Bureau.

[FR Doc. 01-11176 Filed 5-3-01; 8:45 am]

BILLING CODE 6712-01-P